DEPARTMENT OF HEALTH AND HUMAN SERVICES

Indian Health Service

Notice of Service Delivery Area Designation for the Mashpee Wampanoag Indian Tribe

AGENCY: Indian Health Service, HHS.

ACTION: Notice.

SUMMARY: This Notice advises the public that the Indian Health Service (IHS) established the geographic boundaries of the Service Delivery Area (SDA) for the newly recognized Mashpee Wampanoag Indian Tribe. The SDA was established on December 22, 2008 and services were provided to eligible beneficiaries beginning on January 19, 2009. The Mashpee SDA is comprised of Barnstable, Bristol, Norfolk, Plymouth and Suffolk counties in the State of Massachusetts. The counties listed are designated administratively as the SDA, to function as a Contract Health Service Delivery Area (CHSDA), for the purposes of operating a Contract Health Service (CHS) program pursuant to the Indian Self-Determination and Education Assistant Act (ISDEAA), Public Law 93-638.

DATES: This notice is effective 30 days after date of publication in the Federal Register (FR).

ADDRESSES: Comments may be mailed to Betty Gould, Regulations Officer, Indian Health Service, 801 Thompson Avenue, Suite 450, Rockville, Maryland 20852. Comments will be made available for public inspection at this address from 8:30 a.m. to 5 p.m. Monday-Friday beginning approximately two weeks after publication of this notice.

FOR FURTHER INFORMATION CONTACT: Carl Harper, Director, Office of Resource Access and Partnerships, Indian Health Service, 801 Thompson Avenue, Suite 360, Rockville, Maryland 20852. Telephone 301/443-2694 (This is not a toll free number).

SUPPLEMENTARY INFORMATION: The IHS currently provides services under regulations in effect on September 15, 1987 and IHS republished at 42 CFR part 136, Subparts A-C. Many of the newly recognized Tribes do not have reservations and either Congress has legislatively designated counties to serve as SDAs or the Director, IHS, exercised reasonable administrative discretion to designate SDAs to effectuate the intent of Congress for these Tribes. The Director, IHS, published notice of the establishment of SDAs in the June 21, 2007 FR Notice (72 FR 34262-01). The SDAs function as CHSDAs for the purposes of operating a CHS program pursuant to the ISDEAA, Public Law 93-638. Thus, the CHSDA list incorporates the SDAs that operate as CHSDAs for newly recognized Tribes. At 42 CFR part 136 subpart C, a CHSDA is defined as the geographic area within which CHS will be made available by the IHS to members of an identified Indian community who reside in the area. Residence within a CHSDA by a person who is within the scope of the Indian health program, as set forth in 42 CFR 136.12 creates no legal entitlement to contract health services but only potential eligibility for services. Services needed but not available at an IHS/Tribal facility are provided under the CHS program depending on the availability of funds, the person's relative medical priority, and the actual availability and accessibility of alternate resources in accordance with the regulations.

As applicable to the Tribes, these regulations provide that, unless otherwise designated, a CHSDA shall consist of a county which includes all or part of a reservation and any county or counties which have a common boundary with the reservation (42 CFR 136.22(a)(6) (2007). In the Federal Register on February 22, 2007 (72 FR 8007), the Mashpee Wampanoag Indian Tribe was officially recognized as an Indian Tribe within the meaning of Federal law. After consultation with the Tribal governing body, the SDA for the Tribe was agreed upon. The purpose of this FR notice is to notify the public of the Mashpee Wampanoag Indian Tribe SDA to incorporate Barnstable, Bristol, Norfolk, Plymouth and Suffolk counties in the State of Massachusetts. The SDA was established on December 22, 2008 and services were provided to eligible beneficiaries beginning on January 19, 2009.

Under 42 CFR 136.23 those otherwise eligible Indians who do not reside on a reservation but reside within a CHSDA must be either members of the Tribe or maintain close economic and social ties with the Tribe. In this case, the Tribe estimated the eligible user population to be 1,422 enrolled Mashpee Wampanoag members who are actively involved with the Tribe.

The Mashpee Wampanoag Indian Tribe is located in the town of Mashpee, Barnstable County, Massachusetts, on the southeastern portion of Cape Cod along Nantucket Sound. A significant number of the Mashpee Wampanoag SDA eligible user population also reside in the counties of Bristol, Norfolk, Plymouth and Suffolk counties in the state of Massachusetts. These five counties are adjacent to each other. Barnstable, Bristol, Norfolk, Plymouth and Suffolk counties are not part of any other Tribe's CHSDA or SDA. It is important for the Mashpee Wampanoag Indian Tribe to be able to deliver health care services to enrolled members residing in these five counties. The Tribe believes eligible Tribal members living in the counties of the proposed SDA should also be eligible for CHS. The financial resources required to meet the immediate needs of the Tribal members residing in the five counties were determined by the IHS and were placed in the Nashville Area CHS budget. Since

This notice does not contain reporting or recordkeeping requirements subject to prior approval by the Office of Management and Budget under the Paperwork Reduction Act of 1980.

Contract Health Service Delivery Areas and Service Delivery Areas
Tribe/reservation | County/state
Ak Chin Indian Community of the Maricopa (Ak Chin) Indian Reservation, Arizona | Pinal, AZ.
Alabama-Coushatta Tribes of Texas | Polk, TX.¹
Alaska | Entire State.²
Arapahoe Tribe of the Wind River Reservation, Wyoming | Hot Springs, WY, Fremont, WY, Sublette, WY.
Aroostook Band of Micmac Indians of Maine | Aroostook, ME.³
Assiniboine and Sioux Tribes of the Fort Peck Indian Reservation, Montana | Daniels, MT, McCone, MT, Richland, MT, Roosevelt, MT, Sheridan, MT, Valley, MT.
Bad River Band of the Lake Superior Tribe of Chippewa Indians of the Bad River Reservation, Wisconsin | Ashland, WI, Iron, WI.
Bay Mills Indian Community, Michigan | Chippewa, MI.
Blackfeet Tribe of the Blackfeet Indian Reservation of Montana | Glacier, MT, Pondera, MT.
Minnesota Chippewa Tribe, Minnesota Bois Forte Band (Nett Lake) | Itasca, MN, Koochiching, MN, St. Louis, MN.
Brigham City Intermountain School Health Center, Utah | ⁴
Burns Paiute Tribe of the Burns Paiute Indian Colony of Oregon | Harney, OR.
California | Entire State, except for the counties listed in the footnote.⁵
Catawba Indian Nation of South Carolina | All Counties in SC ⁶, Cabarrus, NC, Cleveland, NC, Gaston, NC, Mecklenburg, NC, Rutherford, NC, Union, NC.
Cayuga Nation of New York | Allegany, NY ⁷,Cattaraugus, NY, Chautauqua, NY, Erie, NY, Warren, PA.
Cheyenne River Sioux Tribe of the Cheyenne River Reservation, South Dakota | Corson, SD, Dewey, SD, Haakon, SD, Meade, SD Perkins, SD, Potter, SD, Stanley, SD, Sully, SD Walworth, SD, Ziebach, SD.
Chippewa-Cree Indians of the Rocky Boy's Reservation, Montana | Chouteau, MT, Hill, MT, Liberty, MT.
Chitimacha Tribe of Louisiana | St. Mary Parish, LA.
Cocopah Tribe of Arizona | Yuma, AZ, Imperial, CA.
Coeur D'Alene Tribe of the Coeur D'Alene Reservation, Idaho | Benewah, ID, Kootenai, ID, Latah, ID, Spokane, WA, Whitman, WA.
Colorado River Indian Tribes of the Colorado River Indian Reservation, Arizona and California | La Paz, AZ, Riverside, CA, San Bernardino, CA Yuma, AZ.
Confederated Salish & Kootenai Tribes of the Flathead Reservation, Montana | Flathead, MT, Lake, MT, Missoula, MT, Sanders, MT.
Confederated Tribes of the Chehalis Reservation, Washington | Grays Harbor, WA, Lewis, WA, Thurston, WA.
Confederated Tribes of the Colville Reservation, Washington | Chelan, WA ⁸, Douglas, WA, Ferry, WA, Grant, WA, Lincoln, WA, Okanogan, WA, Stevens, WA.
Confederated Tribes of Coos, Lower Umpqua & Siuslaw Indians of Oregon | Coos, OR ⁹, Curry, OR, Douglas, OR Lane, OR, Lincoln, OR.
Confederated Tribes of the Goshute Reservation, Nevada and Utah | Nevada, Juab, UT, Toole, UT.
Confederated Tribes of Grand Ronde Community of Oregon | Polk, OR ¹⁰, Washington, OR, Marion, OR, Yamhill, OR, Tillamook, OR, Multnomah, OR.
Confederated Tribes of the Siletz Reservation, Oregon | Benton, OR ¹¹, Clackamas, OR, Lane, OR, Lincoln, OR, Linn, OR, Marion, OR, Multnomah, OR, Polk, OR, Tillamook, OR, Washington, OR, Yam Hill, OR.
Confederated Tribes of the Umatilla Reservation, Oregon | Umatilla, OR, Union, OR.
Confederated Tribes of the Warm Springs Reservation of Oregon | Clackamas, OR, Jefferson, OR, Linn, OR, Marion, OR, Wasco, OR.
Confederated Tribes & Bands of the Yakama Nation, Washington | Klickitat, WA, Lewis, WA, Skamania, WA ¹², Yakima, WA.
Coquille Tribe of Oregon | Coos, OR, Curry, OR, Douglas, OR, Jackson, OR, Lane, OR.
Coushatta Tribe of Louisiana | Allen Parish, LA, Elton, LA.¹³
Cow Creek Band of Umpqua Indians of Oregon | Coos, OR ¹⁴, Deshutes, OR, Douglas, OR, Jackson, OR, Josephine, OR, Klamath, OR, Lane, OR.
Cowlitz Indian Tribe, Washington | Clark, WA, Cowlitz, WA, King, WA, Lewis, WA, Pierce, WA, Skamania, WA, Thurston, WA, Columbia, OR, Kittitas, WA, Wahkiakum, WA.¹⁵
Crow Tribe of Montana | Big Horn, MT, Carbon, MT, Treasure, MT¹⁶, Yellowstone, MT, Big Horn, WY, Sheridan, WY.
Crow Creek Sioux Tribe of the Crow Creek Reservation, South Dakota | Brule, SD, Buffalo, SD, Hand, SD, Hughes, SD, Hyde, SD, Lyman, SD, Stanley, SD.
Eastern Band of Cherokee Indians of North Carolina | Cherokee, NC, Graham, NC, Haywood, NC, Jackson, NC, Swain, NC.
Flandreau Santee Sioux Tribe of South Dakota | Moody, SD.
Fond du Lac Band of Chippewa Indians of Minnesota | Carlton, MN, St. Louis, MN.
Forest County Potawatomi Community, Wisconsin | Forest, WI, Marinette, WI, Oconto, WI.
Fort Belknap Indian Community of the Fort Belknap Reservation of Montana | Blaine, MT, Phillips, MT.
Fort McDermitt Paiute and Shoshone Tribes of the Fort McDermitt Indian Reservation, Nevada and Oregon | Nevada, Malheur, OR.
Fort McDowell Yavapai Nation, Arizona | Maricopa, AZ.
Fort Mojave Indian Tribe of Arizona, California and Nevada | Nevada, Mohave, AZ, San Bernardino, CA.
Gila River Indian Community of the Gila River Indian Reservation, Arizona | Maricopa, AZ, Pinal, AZ.
Grand Portage Band of Chippewa Indians of Minnesota | Cook, MN.
Grand Traverse Band of Ottawa & Chippewa Indians of Michigan | Antrim, MI ¹⁷, Benzie, MI, Charlevoix, MI, Grand Traverse, MI, Leelanau, MI, Manistee, MI.
Hannahville Indian Community, Michigan | Delta, MI, Menominee, MI.
Haskell Indian Health Center | Douglas, KS.¹⁸
Havasupai Tribe of the Havasupai Reservation, Arizona | Coconino, AZ.
Ho-Chunk Nation of Wisconsin | Adams, WI ¹⁹, Clark, WI, Columbia, WI, Crawford, WI, Dane, WI, Eau Claire, WI, Houston, MN, Jackson, WI, Juneau, WI, La Crosse, WI, Marathon, WI, Monroe, WI, Sauk, WI, Shawano, WI, Vernon, WI, Wood, WI.
Hoh Indian Tribe of the Hoh Indian Reservation, Washington | Jefferson, WA.
Hopi Tribe of Arizona | Apache, AZ, Coconino, AZ, Navajo, AZ.
Houlton Band of Maliseet Indians of Maine | Aroostook, ME.²⁰
Hualapai Indian Tribe of the Hualapai Indian Reservation, Arizona | Coconino, AZ, Mohave, AZ Yavapai, AZ.
Huron Potawatomi, Inc., Michigan | Allegan, MI ²¹, Barry, MI, Branch, MI, Calhoun, MI, Kalamazoo, MI, Kent, MI, Ottawa, MI.
Iowa Tribe of Kansas and Nebraska | Brown, KS, Doniphan, KS, Richardson, NE.
Jamestown S'Klallam Tribe of Washington | Clallam, WA, Jefferson, WA.
Jena Band of Choctaw Indians, Louisiana | Grand Parish, LA ²², LaSalle Parish, LA, Rapides Parish, LA.
Jicarilla Apache Nation, New Mexico | Archuleta, CO, Rio Arriba, NM, Sandoval, NM.
Kaibab Band of Paiute Indians of the Kaibab Indian Reservation, Arizona | Coconino, AZ, Mohave, AZ, Kane, UT.
Kalispel Indian Community of the Kalispel Indian Reservation, Washington | Pend Oreille, WA, Spokane, WA.
Keweenaw Bay Indian Community, Michigan | Baraga, MI, Houghton, MI, Ontonagon, MI.
Kickapoo Tribe of Indians of the Kickapoo Reservation of Kansas | Brown, KS, Jackson, KS.
Kickapoo Traditional Tribe of Texas | Maverick, TX.²³
Klamath Tribes of Oregon | Klamath, OR.²⁴
Kootenai Tribe of Idaho | Boundary, ID.
Lac Courte Oreilles Band of Lake Superior Chippewa Indians of Wisconsin | Sawyer, WI.
Lac du Flambeau Band of Lake Superior Chippewa Indians of the Lac du Flambeau Reservation of Wisconsin. | Iron, WI, Oneida, WI, Vilas, WI.
Lac Vieux Desert Band of Lake Superior Chippewa Indians, Michigan | Gogebic, MI.
Leech Lake Band of Chippewa Indians of Minnesota | Beltrami, MN, Cass, MN, Hubbard, MN, Itasca, MN.
Little River Band of Ottawa Indians, Michigan | Kent, MI ²⁵, Muskegon, MI, Newaygo, MI, Oceana, MI, Ottawa, MI, Manistee, MI, Mason, MI, Wexford, MI, Lake, MI.
Little Traverse Bay Bands of Odawa Indians, Michigan | Alcona, MI ²⁶, Alger, MI, Alpena, MI, Antrim, MI, Benzie, MI, Charlevoix, MI, Cheboygan, MI Chippewa, MI, Crawford, MI, Delta, MI, Emmet, MI, Grand Traverse, MI, Iosco, MI, Kalkaska, MI, Leelanau, MI, Luce, MI, Mackinac, MI, Manistee, MI, Missaukee, MI, Montmorency, MI, Ogemaw, MI, Oscoda, MI, Otsego, MI, Presque Isle, MI, Schoolcraft, MI, Roscommon, MI, Wexford, MI.
Lower Brule Sioux Tribe of the Lower Brule Reservation, South Dakota | Brule, SD, Buffalo, SD, Hughes, SD, Lyman, SD, Stanley, SD.
Lower Elwha Tribal Community of the Lower Elwha Reservation, Washington | Clallam, WA.
Lower Sioux Indian Community in the State of Minnesota | Redwood, MN, Renville, MN.
Lummi Tribe of the Lummi Reservation, Washington | Whatcom, WA.
Makah Indian Tribe of the Makah Reservation, Washington | Clallam, WA
Mashantucket Pequot Tribe of Connecticut | New London, CT.²⁷
Mashpee Wampanoag | Barnstable, MA, Bristol, MA, Norfolk, MA, Plymouth, MA and Suffolk, MA.²⁸
Match-e-be-nash-she-wish Band of Pottawatomi Indians of Michigan | Allegan, MI ²⁹, Barry, MI, Kalamazoo, MI, Kent, MI, Ottawa, MI.
Menominee Indian Tribe of Wisconsin | Langlade, WI, Menominee, WI, Oconto, WI, Shawano, WI.
Mescalero Apache Tribe of the Mescalero Reservation, New Mexico | Chaves, NM, Lincoln, NM, Otero, NM.
Miccosukee Tribe of Indians of Florida | Broward, FL, Collier, FL, Miami-Dade, FL, Hendry, FL.
Mille Lacs Band of Chippewa Indians of Minnesota | Aitkin, MN, Kanebec, MN, Mille Lacs, MN, Pine, MN.
Mississippi Band of Choctaw Indians, Mississippi | Attala, MS, Jasper, MS ³⁰, Jones, MS Kemper, MS, Leake, MS, Neshoba, MS, Newton, MS, Noxubee, MS ³¹, Scott, MS ³², Winston, MS.
Mohegan Indian Tribe of Connecticut | Fairfield, CT, Hartford, CT, Litchfield, CT, Middlesex, CT, New Haven, CT, New London, CT, Tolland, CT, Windham, CT.
Muckleshoot Indian Tribe of the Muckleshoot Reservation, Washington | King, WA, Pierce, WA.
Narragansett Indian Tribe of Rhode Island | Washington, RI.³³
Navajo Nation, Arizona, New Mexico and Utah | Apache, AZ, Bernalillo, NM, Cibola, NM, Coconino, AZ, Kane, UT, McKinley, NM, Montezuma, CO, Navajo, AZ, Rio Arriba, NM, Sandoval, NM, San Juan, NM, San Juan, UT, Socorro, NM, Valencia, NM.
Nevada | Entire State.³⁴
Nez Perce Tribe of Idaho | Clearwater, ID, Idaho, ID, Latah, ID, Lewis, ID, Nez Perce, ID.
Nisqually Indian Tribe of the Nisqually Reservation, Washington | Pierce, WA, Thurston, WA.
Nooksack Indian Tribe of Washington | Whatcom, WA.
Northern Cheyenne Tribe of the Northern Cheyenne Indian Reservation, Montana | Big Horn, MT, Carter, MT ³⁵ Rosebud, MT.
Northwestern Band of Shoshoni Nation of Utah (Washakie) | Box Elder, UT.³⁶
Oglala Sioux Tribe of the Pine Ridge Reservation, South Dakota | Bennett, SD, Cherry, NE, Custer, SD, Dawes, NE, Fall River, SD, Jackson, SD ³⁷ Mellete, SD, Pennington, SD, Shannon, SD, Sheridan, NE, Todd, SD.
Oklahoma | Entire State.³⁸
Omaha Tribe of Nebraska | Burt, NE, Cuming, NE, Monona, IA, Thurston, NE, Wayne, NE.
Oneida Nation of New York | Chenango, NY, Cortland, NY, Herkimer, NY, Madison, NY, Oneida, NY, Onondaga, NY.
Oneida Tribe of Indians of Wisconsin | Brown, WI, Outagamie, WI.
Onondaga Nation of New York | Onondaga, NY.
Paiute Indian Tribe of Utah | Iron, UT,³⁹ Millard, UT, Sevier, UT Washington, UT.
Pascua Yaqui Tribe of Arizona | Pima, AZ.⁴⁰
Passamaquoddy Tribe of Maine | Aroostook, ME,⁴¹ Washington, ME.
Passamaquoddy Tribe of Pleasant Point, Maine | Washington, ME, south of State Route.⁴²
Penobscot Tribe of Maine | Aroostook, ME ⁴³, Penobscot, ME.
Poarch Band of Creek Indians of Alabama | Baldwin, AL ⁴⁴, Escambia, AL, Mobile, AL, Monroe, AL, Escambia, FL.
Pokagon Band of Potawatomi Indians, Michigan and Indiana | Allegan, MI, Berrien, MI, Cass, MI, Elkhart, IN ⁴⁵, Kosciusko, IN, La Porte, IN, Marshall, IN, St. Joseph, IN, Starke, IN, Van Buren, MI.
Ponca Tribe of Nebraska | Boyd, NE ⁴⁶, Burt, NE, Charles Mix, SD, Douglas, NE, Hall, NE, Holt, NE, Knox, NE, Lancaster, NE, Madison, NE, Platte, NE, Pottawattomie, IA, Sarpy, NE, Stanton, NE, Wayne, NE, Woodbury, IA.
Port Gamble Indian Community of the Port Gamble Reservation, Washington | Kitsap, WA.
Prairie Band of Potawatomi Nation, Kansas | Jackson, KS.
Prairie Island Indian Community in the State of Minnesota | Goodhue, MN.
Pueblo of Acoma, New Mexico | Cibola, NM.
Pueblo of Cochiti, New Mexico | Sandoval, NM, Santa Fe, NM.
Pueblo of Jemez, New Mexico | Sandoval, NM.
Pueblo of Isleta, New Mexico | Bernalillo, NM, Torrance, NM, Valencia, NM.
Pueblo of Laguna, New Mexico | Bernalillo, NM, Cibola, NM, Sandoval, NM Valencia, NM.
Pueblo of Nambe, New Mexico | Santa Fe, NM.
Pueblo of Picuris, New Mexico | Taos, NM.
Pueblo of Pojoaque, New Mexico | Rio Arriba, NM, Santa Fe, NM.
Pueblo of San Felipe, New Mexico | Sandoval, NM.
Pueblo of San Ildefonso, New Mexico | Los Alamos, NM, Rio Arriba, NM, Sandoval, NM, Santa Fe, NM.
Pueblo of San Juan, New Mexico | Rio Arriba, NM.
Pueblo of Sandia, New Mexico | Bernalillo, NM, Sandoval, NM.
Pueblo of Santa Ana, New Mexico | Sandoval, NM.
Pueblo of Santa Clara, New Mexico | Los Alamos, NM, Sandoval, NM, Santa Fe, NM.
Pueblo of Santo Domingo, New Mexico | Sandoval, NM, Santa Fe, NM.
Pueblo of Taos, New Mexico | Colfax, NM, Taos, NM.
Pueblo of Tesuque, New Mexico | Santa Fe, NM.
Pueblo of Zia, New Mexico | Sandoval, NM.
Puyallup Tribe of the Puyallup Reservation, Washington | King, WA, Pierce, WA, Thurston, WA.
Quechan Tribe of the Fort Yuma Indian Reservation, California and Arizona | Yuma, AZ, Imperial, CA.
Quileute Tribe of the Quileute Reservation, Washington | Clallam, WA, Jefferson, WA.
Quinault Tribe of the Quinault Reservation, Washington | Grays Harbor, WA, Jefferson, WA.
Rapid City, South Dakota | Pennington, SD.⁴⁷
Red Cliff Band of Lake Superior Chippewa Indians of Wisconsin | Bayfield, WI.
Red Lake Band of Chippewa Indians, Minnesota | Beltrami, MN, Clearwater, MN, Koochiching, MN, Lake of the Woods, MN, Marshall, MN Pennington, MN, Polk, MN, Roseau, MN.
Rosebud Sioux Tribe of the Rosebud Indian Reservation, South Dakota | Bennett, SD, Cherry, NE, Gregory, SD, Lyman, SD, Mellette, SD, Todd, SD, Tripp, SD.
Sac & Fox Tribe of the Mississippi in Iowa | Tama, IA.
Sac & Fox Nation of Missouri in Kansas & Nebraska | Brown, KS, Richardson, NE.
Saginaw Chippewa Indian Tribe of Michigan | Arenac, MI,⁴⁸ Clare, MI, Isabella, MI, Midland, MI, Missaukee, MI.
St. Croix Chippewa Indians of Wisconsin | Barron, WI, Burnett, WI, Pine, MN, Polk, WI Washburn, WI.
Saint Regis Mohawk Tribe, New York | Franklin, NY, St. Lawrence, NY.
Salt River Pima-Maricopa Indian Community of Salt River Reservation, Arizona | Maricopa, AZ.
Samish Indian Tribe, Washington | Clallam, WA,⁴⁹ Island, WA, Jefferson, WA King, WA, Kitsap, WA, Pierce, WA, San Juan, WA, Skagit, WA, Snohomish, WA, Whatcom, WA.
San Carlos Apache Tribe of the San Carlos Reservation, Arizona | Apache, AZ, Cochise, AZ, Gila, AZ, Graham, AZ, Greenlee, AZ, Pinal, AZ.
San Juan Southern Paiute Tribe of Arizona | Coconino, AZ, San Juan, UT.
Santee Sioux Nation, Nebraska | Bon Homme, SD, Knox, NE.
Sauk-Suiattle Indian Tribe of Washington | Snohomish, WA, Skagit, WA.
Sault Ste. Marie Tribe of Chippewa Indians of Michigan | Alger, MI,⁵⁰ Chippewa, MI, Delta, MI Luce, MI, Mackinac, MI, Marquette, MI Schoolcraft, MI.
Seminole Tribe of Florida | Broward, Fl, Collier, Fl, Miami-Dade, FL, Glades, FL, Hendry, FL.
Seneca Nation of New York | Allegany, NY, Cattaraugus, NY, Chautauqua, NY, Erie, NY, Warren, PA.
Shakopee Mdewakanton Sioux Community of Minnesota | Scott, MN.
Shoalwater Bay Tribe of the Shoalwater Bay Indian Reservation, Washington | Pacific, WA.
Shoshone Tribe of the Wind River Reservation, Wyoming | Hot Springs, WY, Fremont, WY, Sublette, WY.
Shoshone-Bannock Tribes of the Fort Hall Reservation of Idaho | Bannock, ID, Bingham, ID, Caribou, ID, Lemhi, ID ⁵¹, Power, ID.
Shoshone-Paiute Tribes of the Duck Valley Reservation, Nevada | Nevada, Owyhee, ID.
Sisseton-Wahpeton Oyate of the Lake Traverse Reservation, South Dakota | Codington, SD, Day, SD, Grant, SD, Marshall, SD, Richland, ND, Roberts, SD, Sargent, ND, Traverse, MN.
Skokomish Indian Tribe of Skokomish Reservation, Washington | Mason, WA.
Skull Valley Band of Goshute Indians of Utah | Tooele, UT.
Snoqualmie Tribe, Washington | King, WA,⁵² Snohomish, WA, Pierce, WA, Island, WA, Mason, WA.
Sokaogon Chippewa Community, Wisconsin | Forest, WI.
Southern Ute Indian Tribe of the Southern Ute Reservation, Colorado | Archuleta, CO, La Plata, CO, Montezuma, CO, Rio Arriba, NM, San Juan, NM.
Spirit Lake Tribe, North Dakota | Benson, ND, Eddy, ND, Nelson, ND, Ramsey, ND.
Spokane Tribe of the Spokane Reservation, Washington | Ferry, WA, Lincoln, WA, Stevens, WA.
Squaxin Island Tribe of the Squaxin Island Reservation, Washington | Mason, WA.
Standing Rock Sioux Tribe of North and South Dakota | Adams, ND, Campbell, SD, Corson, SD, Dewey, SD, Emmons, ND, Grant, ND, Morton, ND, Perkins, SD, Sioux, ND, Walworth, SD, Ziebach, SD.
Stockbridge Munsee Community, Wisconsin | Menominee, WI, Shawano, WI.
Stillaguamish Tribe of Washington | Snohomish, WA.
Suquamish Indian Tribe of the Port Madison Reservation, Washington | Kitsap, WA.
Swinomish Indians of the Swinomish Reservation, Washington | Skagit, WA.
Three Affiliated Tribes of the Fort Berthold Reservation, North Dakota | Dunn, ND, Mercer, ND, McKenzie, ND, McLean, ND, Mountrail, ND, Ward, ND.
Tohono O'odham Nation of Arizona | Maricopa, AZ, Pima, AZ, Pinal, AZ.
Tonawanda Band of Seneca Indians of New York | Genesee, NY, Erie, NY, Niagara, NY.
Tonto Apache Tribe of Arizona | Gila, AZ.
Trenton Service Unit, North Dakota and Montana | Divide, ND,⁵³ McKenzie, ND, Williams, ND, Richland, MT, Roosevelt, MT, Sheridan, MT.
Tulalip Tribes of the Tulalip Reservation, Washington | Snohomish, WA.
Tunica-Biloxi Indian Tribe of Louisiana | Avoyelles, LA, Rapides, LA.⁵⁴
Turtle Mountain Band of Chippewa Indians of North Dakota | Rolette, ND.
Tuscarora Nation of New York | Niagara, NY.
Upper Sioux Community, Minnesota | Chippewa, MN, Yellow Medicine, MN.
Upper Skagit Indian Tribe of Washington | Skagit, WA.
Ute Indian Tribe of the Uintah & Ouray Reservation, Utah | Carbon, UT, Daggett, UT, Duchesne, UT, Emery, UT, Grand, UT, Rio Blanco, CO, Summit, UT, Uintah, UT, Utah, UT, Wasatch, UT.
Ute Mountain Tribe of the Ute Mountain Reservation, Colorado, New Mexico and Utah | Apache, AZ, La Plata, CO, Montezuma, CO, San Juan, NM, San Juan, UT.
Wampanoag Tribe of Gay Head (Aquinnah) of Massachusetts | Dukes, MA.⁵⁵
Washoe Tribe of Nevada & California | Entire State of NV Entire State of CA, except for the counties listed in footnote.
White Earth Band of Chippewa Indians of Minnesota | Becker, MN, Clearwater, MN, Mahnomen, MN Norman, MN, Polk, MN.
White Mountain Apache Tribe of the Fort Apache Reservation, Arizona | Apache, AZ, Coconino, AZ, Gila, AZ, Graham, AZ, Greenlee, AZ, Navajo, AZ.
Winnebago Tribe of Nebraska | Dakota, NE, Dixon, NE, Monona, IA, Thurston, NE, Wayne, NE, Woodbury, IA.
Yankton Sioux Tribe of South Dakota | Bon Homme, SD, Boyd, NE, Charles Mix, SD, Douglas, SD, Gregory, SD, Hutchinson, SD Knox, NE.
Yavapai-Apache Nation of the Camp Verde Indian Reservation, Arizona | Yavapai, AZ.
Yavapai-Prescott Tribe of the Yavapai Reservation, Arizona | Yavapai, AZ.
Ysleta Del Sur Pueblo of Texas | El Paso, TX.⁵⁶
Zuni Tribe of the Zuni Reservation, New Mexico | Apache, AZ, Cibola, NM, McKinley, NM, Valencia, NM.
¹ Public Law 100-89, Restoration Act for Ysleta Del Sur and Alabama and Coushatta Tribes of Texas establishes service areas for “members of the Tribe” by sections 101(3) and 105(a) for the Pueblo and sections 201(3) and 206(a) respectively.
² Entire State of Alaska is included as a CHSDA by regulation (42 CFR 136.22(a)(1)).
³ Aroostook Band of Micmac was recognized by Congress on November 26, 1991 through the Aroostook Band of Micmac Settlement Act. Aroostook County was defined as the SDA.
⁴ Special programs established by Congress irrespective of the eligibility regulations. Eligibility for services at these facilities is based on the legislative history of the appropriation of funds for the particular facility, rather than the eligibility regulations and historically services have been provided at Brigham City (Pub. L. 88-358).
⁵ Entire State of California, excluding counties of Alameda, Contra Costa, Los Angeles, Marin, Orange, Sacramento, San Francisco, San Mateo, Santa Clara, Kern, Merced, Monterey, Napa, San Benito, San Joaquin, San Luis Obispo, Santa Cruz, Solano, Stanislaus, and Ventura, is designated a CHSDA (25 U.S.C. 1680).
⁶ This is a newly recognized Tribe, as documented at 67 FR 46329, July 12, 2002. The counties listed were designated administratively as the SDA, to function as a CHSDA, for the purposes of the operating a CHS program pursuant to the ISDEAA, Pub. L. 93-638.
⁷ This is a newly recognized Tribe, as documented at 67 FR 46329, July 12, 2002. The counties listed were designated administratively as the SDA, to function as a CHSDA, for the purposes of the operating a CHS program pursuant to the ISDEAA, Pub. L. 93-638.
⁸ Historically part of the Coleville Service Unit population since 1970.
⁹ Members of the Tribe residing in these counties were specified as eligible for Federal services and benefits without regard to the existence of a Federal Indian reservation (Pub. L. 98-481, and H. Rept. No. 98-904).
¹⁰ Confederated Tribes of Grande Ronde Community of Oregon recognized by Pub. L. 98-165, signed into law on November 22, 1983, provides for eligibility in these six counties without regard to the existence of a reservation.
¹¹ In order to carry out the Congressional intent of the Siletz Restoration Act, Pub. L. 95-195, as expressed in H. Report No. 95-623, at page 4, Siletz Tribal members residing in these counties are eligible for contract health services.
¹² Historically part of the Yakama Service Unit population since 1979.
¹³ Contract Health Service Delivery Area expanded administratively by the Director, IHS, through regulation (42 CFR 136.22(6)) to include city limits of Elton, LA.
¹⁴ Cow Creek Band of Umpqua Indians of Oregon recognized by Pub. L. 97-391, signed into law on December 29, 1983. House Rept. No. 97-862 designates Douglas, Jackson, and Josephine Counties as a service area without regard to the existence of a reservation. The IHS later exercised administrative discretion to add Coos, Deshutes, Klamath and Lane counties to the service delivery area.
¹⁵ This is a newly recognized Tribe, as documented at 67 FR 46329, July 12, 2002. The counties listed were designated administratively as the SDA, to function as a CHSDA, for the purposes of the operating a CHS program pursuant to the ISDEAA, Pub. L. 93-638. It is proposed that Columbia County, OR, Kittitas, WA and Wahkiakum County, WAS be added to the existing SDA.
¹⁶ Historically part of Crow Service Unit population.
¹⁷ Historically part of the Grand Traverse Service Unit population since 1980.
¹⁸ Historically part of Kansas Service Unit since 1979. Special programs established by Congress irrespective of the eligibility regulations. Eligibility for services at these facilities is based on the legislative history of the appropriation of funds for the particular facility, rather than the eligibility regulations and historically services have been provided at Haskell (H. Rept. No. 95-392).
¹⁹ The counties included in this CHSDA were designated by regulation (42 CFR 136.22(a)(5)).
²⁰ Public Law 97-428 provides for eligibility in or around the Town of Houlton without regard to existence of a reservation.
²¹ This is a newly recognized Tribe, as documented at 67 FR 46329, July 12, 2002. The counties listed were designated administratively as the SDA, to function as a CHSDA, for the purposes of the operating a CHS program pursuant to the ISDEAA, Pub. L. 93-638.
²² This is a newly recognized Tribe, as documented at 67 FR 46329, July 12, 2002. The counties listed were designated administratively as the SDA, to function as a CHSDA, for the purposes of the operating a CHS program pursuant to the ISDEAA, Pub. L. 93-638.
²³ Texas Band of Kickapoo was recognized by Pub. L. 97-429, signed into law on January 8, 1983.The Act provides for eligibility for Kickapoo Tribal members residing in Maverick County without regard to the existence of a reservation.
²⁴ Legislative history states that for the purpose of Federal services and benefits “members of the tribe residing in Klamath County shall be deemed to be residing in or near a reservation”. (Pub. L. 99-398, Sec. 2(2)).
²⁵ The Little River Band of Ottawa Indians and the Little Traverse Bay Bands of Odawa Indians were recognized by Congress (Pub. L. 103-324, Sec.4 (b)(2)) and the listed counties were designated as the SDA, to function as a CHSDA, for the purposes of the operating a CHS program pursuant to the ISDEAA, Pub. L. 93-638.
²⁶ The Little River Band of Ottawa Indians and the Little Traverse Bay Bands of Odawa Indians were recognized by Congress (Pub. L. 103-324, Sec.4 (b)(2)) and the listed counties were designated as the SDA, to function as a CHSDA, for the purposes of the operating a CHS program pursuant to the ISDEAA, Pub. L. 93-638.
²⁷ Mashantucket Pequot Indian Claims Settlement Act, Pub. L. 98-134, signed into law on October 18, 1983, provides for a reservation in New London.
²⁸ This is a newly recognized Tribe, as documented at 72 FR 8007, February 22, 2007. The counties listed were designated administratively as the SDA, to function as a CHSDA, for the purposes of the operating a CHS program pursuant to the ISDEAA, Pub. L. 93-638.
²⁹ This is a newly recognized Tribe, as documented at 67 FR 46329, July 12, 2002. The counties listed were designated administratively as the SDA, to function as a CHSDA, for the purposes of the operating a CHS program pursuant to the ISDEAA, Pub. L. 93-638.
³⁰ Choctaw Indians residing in Jasper and Noxubee Counties, MS, will continue to be eligible for contract health services. These two counties were inadvertently omitted from 42 CFR 136.22.
³¹ Choctaw Indians residing in Jasper and Noxubee Counties, MS, will continue to be eligible for contract health services. These two counties were inadvertently omitted from 42 CFR 136.22.
³² Historically part of the Choctaw Service Unit population since 1970.
³³ Narragansett Indians recognized by Pub. L. 95-395, signed into law September 30, 1978. Lands in Washington County are now Federally restricted and the Bureau of Indian Affairs considers them as the Narragansett Indian Reservation.
³⁴ Entire State of Nevada is included as a CHSDA by regulation (42 CFR 136.22 (a)(2)).
³⁵ Historically part of the Northern Cheyenne Service Unit population since 1979.
³⁶ Land of Box Elder County, Utah, taken into trust for the Tribe in 1986.
³⁷ Washabaugh County, SD is part of Jackson County, SD, on November 5, 1968.
³⁸ Entire State of Oklahoma is included as a CHSDA by regulation (42 CFR 136.22 (a)(3)).
³⁹ Paiute Indian Tribe of Utah Reservation Act, Pub. L. 96-227, provides for the extension of services to these four counties without regard to the existence of a reservation.
⁴⁰ Legislative history (H.R. Report No. 95-1021) to Pub. L.95-375, Extension of Federal Benefits to Pascua Yaqui Indians, Arizona, expresses congressional intent that lands conveyed to the Tribes pursuant to Act of October 8, 1964. (Pub. L. 88-350) shall be deemed a Federal Indian Reservation.
⁴¹ Included to carry out the intention of Congress to fund and provide contract health services to Penobscot and Passamaquoddy Indians (Pub. L. 96-420; H. Rept. 96-1353).
⁴² Included to carry out the intention of Congress to fund and provide contract health services to Penobscot and Passamaquoddy Indians (Pub. L. 96-420; H. Rept. 96-1353)
⁴³ Included to carry out the intention of Congress to fund and provide contract health services to Penobscot and Passamaquoddy Indians (Pub. L. 96-420; H. Rept. 96-1353)
⁴⁴ Counties in the Service Unit designated by Congress for the Poarch Band of Creek Indians (see H. Rept. 98-886, June 29, 1984; Cong. Record, October 10, 1984, Pg. H11929).
⁴⁵ This is a newly recognized Tribe, as documented at 67 FR 46329, July 12, 2002. The counties listed were designated administratively as the SDA, to function as a CHSDA, for the purposes of the operating a CHS program pursuant to the ISDEAA, Pub. L. 93-638.
⁴⁶ Ponca Restoration Act, Pub. L. 101-484, recognized members of the Tribe residing in Boyd, Douglas, Knox, Madison or Lancaster counties of Nebraska or Charles Mix county of South Dakota shall be deemed to be residing on or near a reservation. Pub. L. 104-109 added Burt, Hall, Holt, Platte, Sarpy, Stanton, and Wayne counties of Nebraska and Pottawatomie and Woodbury counties of Iowa.
⁴⁷ Special programs established by Congress irrespective of the eligibility regulations. Eligibility for services at these facilities is based on the legislative history of the appropriation of funds for the particular facility, rather than the eligibility regulations and historically services have been provided at Rapid City.
⁴⁸ Historically part of Isabella Reservation Area and Eastern Michigan Service Unit population since 1979.
⁴⁹ This is a newly recognized Tribe, as documented at 67 FR 46329, July 12, 2002. The counties listed were designated administratively as the SDA, to function as a CHSDA, for the purposes of the operating a CHS program pursuant to the ISDEAA, Pub. L. 93-638.
⁵⁰ The counties included in this CHSDA were designated by regulation (42 CFR 136.22(a)(4)).
⁵¹ Historically part of the Fort Hall Service Unit population since 1979.
⁵² This is a newly recognized Tribe, as documented at 67 FR 46329, July 12, 2002. The counties listed were designated administratively as the SDA, to function as a CHSDA, for the purposes of the operating a CHS program pursuant to the ISDEAA, Pub. L. 93-638.
⁵³ The Secretary acting through the Service is directed to provide contract health services to Turtle Mountain Band of Chippewa Indians that reside in Trenton Service Area of Divide, Mackenzie, and Williams counties in the state of North Dakota and the adjoining counties of Richland, Roosevelt, and Sheridan in the state of Montana (Sec. 815, Pub. L. 94-437).
⁵⁴ Historically part of the Tunica Biloxi Service Unit population since 1982.
⁵⁵ Members of the Tribe residing in Martha's Vineyard [are] deemed to be living “on or near an Indian reservation” for the purposes of eligibility for Federal services (Sec. 12, Pub. L.100-95).
⁵⁶ Public Law 100-89, Restoration Act for Ysleta Del Sur and Alabama and Coushatta Tribes of Texas establishes service areas for “members of the Tribe” by sections 101(3) and 105(a) for the Pueblo and sections 201(3) and 206(a) respectively.

Dated: August 29, 2012.
Yvette Roubideaux,
Director, Indian Health Service.

[FR Doc. 2012-22593 Filed 9-12-12; 8:45 am]

BILLING CODE 4165-16-P